DEPARTMENT OF COMMERCE

National Oceanic and Atmospheric Administration

[RTID 0648-XR091]

Marine Mammals; File No. 23273

AGENCY: National Marine Fisheries Service (NMFS), National Oceanic and Atmospheric Administration (NOAA), Commerce.

ACTION: Notice; receipt of application.

SUMMARY: Notice is hereby given that Michelle Shero, Ph.D., Woods Hole Oceanographic Institution, 266 Woods Hole Road, Woods Hole, MA 02543, has applied in due form for a permit to conduct research on Weddell seals (Leptonychotes weddellii).

DATES: Written, telefaxed, or email comments must be received on or before March 27, 2020.

ADDRESSES: The application and related documents are available for review by selecting “Records Open for Public Comment” from the “Features” box on the Applications and Permits for Protected Species (APPS) home page, https://apps.nmfs.noaa.gov, and then selecting File No. 23273 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant requests a permit to take Weddell seals to assess the nature and underlying mechanisms that contribute to the significant heterogeneity observed in reproductive rates and animal fitness that exist within wild animal populations. This project will take a two-stage approach to understanding the causes of observed differences in reproductive output by comparing high- and low-quality females' energy dynamics, aerobic capacity and dive behavior, and fertility (genetics). To achieve project goals, a cohort of 26 female-pup pairs (13 high-quality, 13 low-quality) in Erebus Bay, Antarctica will undergo health assessments across the austral summer. Dive recorders will also be deployed during this time, and instruments will be recovered after the winter (gestational) foraging period. An estimated 52 animals may be taken (although additional animals may sampled if animals do not return to the expected location for recapture) by capture and restraint for drug administration, biological sampling, blood sampling, instrumentation, marking, measuring, ultrasound, and weighing. Up to 36,100 Weddell seals may also be taken by harassment through counting surveys, collection of molt, scat, spew, urine, and unmanned aircraft systems for photogrammetry. Samples collected during research and salvaged from carcasses may be imported or exported. Up to five mortalities of Weddell seal females and five Weddell seal pups are requested annually, not to exceed 15 mortalities across the duration of the permit. Up to 20 crabeater seals (Lobodon carcinophagus) may also be incidentally harassed during research activities.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 21, 2020.
Julia Marie Harrison,
Chief, Permits and Conservation Division, Office of Protected Resources, National Marine Fisheries Service.

[FR Doc. 2020-03846 Filed 2-25-20; 8:45 am]

BILLING CODE 3510-22-P